DEPARTMENT OF VETERANS AFFAIRS

Disruption of Mail Service

AGENCY: Department of Veterans Affairs.

ACTION: Notice of exception to date of receipt.

SUMMARY: In late August 2017, Hurricane Harvey interrupted operations at the Department of Veterans Affairs (VA) regional office in Houston, Texas, as well as postal service in multiple Texas communities. In late September 2017, Hurricane Maria interrupted operations at the VA regional office in Puerto Rico, and postal service throughout the Puerto Rico and U.S. Virgin Islands area. Correspondence containing claims, information, or evidence sent to VA during these periods was likely delayed due to interrupted operations of the regional office or postal service. VA aims to protect the interest of claimants who sent correspondence to the Veterans Benefits Administration (VBA) through the normal channels of communication during these periods and prevent them from possibly being deprived of benefits solely because those channels of communication were disrupted due to events outside of the claimants' control. Therefore, VA is instituting procedures to consider alternative dates as the date of receipt of correspondence.

FOR FURTHER INFORMATION CONTACT: Jonathan Hughes, Acting Assistant Director, Policy and Procedures, Compensation Service, Department of Veterans Affairs, 810 Vermont Avenue, NW, Washington, DC 20420, (202) 461-9700 (this is not a toll-free telephone number).

SUPPLEMENTARY INFORMATION: A VA regulation, 38 CFR 3.1(r), allows the Under Secretary for Benefits to establish exceptions to VA's rule about date of receipt of claims, information, or evidence. Ordinarily, “date of receipt” means the date on which a claim, information or evidence was received in a VA office. The regulation states that exceptions may be established when a natural or man-made interference with the normal channels through which VA ordinarily receives correspondence has resulted in one or more VA regional offices experiencing extended delays in receipt of claims, information or evidence to an extent that, if not addressed, the delay would adversely affect such claimants, through no fault of their own.

In late August 2017, Hurricane Harvey interrupted operations at the VA regional office in Houston, Texas, as well as postal service in multiple surrounding Texas communities. In late September 2017, Hurricane Maria interrupted operations at the VA regional office in Puerto Rico, as well as postal service in the Puerto Rico and U.S. Virgin Islands areas. Correspondence containing claims, information or evidence sent to VA during these periods was likely delayed due to interrupted operations of the regional office or postal service. Because regional offices and the mail system were impacted, VA established the following exceptions to the standard rule, on date of receipt.

Exceptions to Date of Receipt for Claimants Affected By Hurricane Harvey

VA hereby gives notice that, for purposes of determining the date of entitlement, any correspondence received by VA during the period September 1 through September 7, 2017, from individuals in zip codes designated to have been impacted by Hurricane Harvey that contained claims, information or evidence will be considered received no later than August 31, 2017. Alternatively, if the correspondence was received during the period September 1 through September 7, 2017, but the postmark date is prior to August 31, 2017, the correspondence will be considered received on the date of postmark.

This guidance applies to correspondence received during the designated period from the zip codes designated below.

Zip Codes Impacted by Hurricane Harvey
75928 | 77062 | 77252 | 77364 | 77467 | 77573 | 77950 | 78393
75930 | 77063 | 77253 | 77365 | 77468 | 77574 | 77951 | 78401
75931 | 77064 | 77254 | 77367 | 77469 | 77575 | 77954 | 78402
75932 | 77065 | 77255 | 77368 | 77470 | 77577 | 77957 | 78403
75933 | 77066 | 77256 | 77369 | 77471 | 77578 | 77960 | 78404
75934 | 77067 | 77257 | 77371 | 77473 | 77580 | 77961 | 78405
75936 | 77068 | 77258 | 77372 | 77474 | 77581 | 77962 | 78406
75938 | 77069 | 77259 | 77373 | 77475 | 77582 | 77963 | 78407
75939 | 77070 | 77261 | 77374 | 77476 | 77583 | 77964 | 78408
75942 | 77071 | 77262 | 77375 | 77477 | 77584 | 77967 | 78409
75948 | 77072 | 77263 | 77376 | 77478 | 77585 | 77968 | 78410
75951 | 77073 | 77265 | 77377 | 77479 | 77586 | 77969 | 78411
75956 | 77074 | 77266 | 77378 | 77480 | 77587 | 77970 | 78412
75959 | 77075 | 77267 | 77379 | 77481 | 77588 | 77971 | 78413
75960 | 77076 | 77268 | 77380 | 77482 | 77590 | 77973 | 78414
75966 | 77077 | 77269 | 77381 | 77483 | 77591 | 77974 | 78415
75968 | 77078 | 77270 | 77382 | 77484 | 77592 | 77975 | 78416
75977 | 77079 | 77271 | 77383 | 77485 | 77597 | 77976 | 78417
75979 | 77080 | 77272 | 77384 | 77486 | 77598 | 77977 | 78418
75990 | 77081 | 77273 | 77385 | 77487 | 77611 | 77978 | 78419
77001 | 77082 | 77274 | 77386 | 77488 | 77612 | 77979 | 78426
77002 | 77083 | 77275 | 77387 | 77489 | 77613 | 77982 | 78427
77003 | 77084 | 77277 | 77388 | 77491 | 77614 | 77983 | 78460
77004 | 77085 | 77279 | 77389 | 77492 | 77615 | 77984 | 78463
77005 | 77086 | 77280 | 77391 | 77493 | 77616 | 77986 | 78465
77006 | 77087 | 77282 | 77393 | 77494 | 77617 | 77987 | 78466
77007 | 77088 | 77284 | 77396 | 77496 | 77619 | 77988 | 78467
77008 | 77089 | 77287 | 77399 | 77497 | 77622 | 77989 | 78468
77009 | 77090 | 77288 | 77401 | 77498 | 77623 | 77990 | 78469
77010 | 77091 | 77289 | 77402 | 77501 | 77624 | 77991 | 78472
77011 | 77092 | 77290 | 77404 | 77502 | 77625 | 77993 | 78480
77012 | 77093 | 77291 | 77406 | 77503 | 77626 | 77994 | 78602
77013 | 77094 | 77292 | 77407 | 77504 | 77627 | 77995 | 78604
77014 | 77095 | 77293 | 77410 | 77505 | 77629 | 78102 | 78612
77015 | 77096 | 77297 | 77411 | 77506 | 77630 | 78104 | 78614
77016 | 77098 | 77299 | 77412 | 77507 | 77631 | 78107 | 78616
77017 | 77099 | 77301 | 77413 | 77508 | 77632 | 78111 | 78621
77018 | 77201 | 77302 | 77414 | 77510 | 77639 | 78113 | 78622
77019 | 77202 | 77303 | 77415 | 77511 | 77640 | 78116 | 78629
77020 | 77203 | 77304 | 77417 | 77512 | 77641 | 78117 | 78632
77021 | 77204 | 77305 | 77418 | 77514 | 77642 | 78118 | 78644
77022 | 77205 | 77306 | 77419 | 77515 | 77643 | 78119 | 78648
77023 | 77206 | 77315 | 77420 | 77516 | 77650 | 78122 | 78650
77024 | 77207 | 77316 | 77422 | 77517 | 77651 | 78125 | 78655
77025 | 77208 | 77318 | 77423 | 77518 | 77655 | 78140 | 78656
77026 | 77209 | 77320 | 77428 | 77519 | 77656 | 78141 | 78658
77027 | 77210 | 77325 | 77429 | 77520 | 77657 | 78142 | 78659
77028 | 77212 | 77326 | 77430 | 77521 | 77659 | 78144 | 78661
77029 | 77213 | 77327 | 77431 | 77522 | 77660 | 78145 | 78662
77030 | 77215 | 77328 | 77432 | 77523 | 77661 | 78146 | 78677
77031 | 77216 | 77331 | 77433 | 77530 | 77662 | 78151 | 78931
77032 | 77217 | 77332 | 77434 | 77531 | 77663 | 78159 | 78932
77033 | 77218 | 77333 | 77435 | 77532 | 77664 | 78162 | 78933
77034 | 77219 | 77334 | 77436 | 77533 | 77665 | 78164 | 78934
77035 | 77220 | 77335 | 77437 | 77534 | 77670 | 78330 | 78935
77036 | 77221 | 77336 | 77440 | 77535 | 77701 | 78335 | 78938
77037 | 77222 | 77337 | 77441 | 77536 | 77702 | 78336 | 78940
77038 | 77223 | 77338 | 77442 | 77538 | 77703 | 78339 | 78941
77039 | 77224 | 77339 | 77443 | 77539 | 77704 | 78340 | 78942
77040 | 77225 | 77340 | 77444 | 77541 | 77705 | 78343 | 78943
77041 | 77226 | 77341 | 77445 | 77542 | 77706 | 78347 | 78944
77042 | 77227 | 77342 | 77446 | 77545 | 77707 | 78351 | 78945
77043 | 77228 | 77343 | 77447 | 77546 | 77708 | 78352 | 78946
77044 | 77229 | 77344 | 77448 | 77547 | 77710 | 78358 | 78947
77045 | 77230 | 77345 | 77449 | 77549 | 77713 | 78359 | 78948
77046 | 77231 | 77346 | 77450 | 77550 | 77720 | 78362 | 78949
77047 | 77233 | 77347 | 77451 | 77551 | 77725 | 78363 | 78950
77048 | 77234 | 77348 | 77452 | 77552 | 77726 | 78364 | 78951
77049 | 77235 | 77349 | 77453 | 77553 | 77830 | 78368 | 78952
77050 | 77236 | 77350 | 77454 | 77554 | 77831 | 78370 | 78953
77051 | 77237 | 77351 | 77455 | 77555 | 77853 | 78373 | 78954
77052 | 77238 | 77353 | 77456 | 77560 | 77861 | 78374 | 78956
77053 | 77240 | 77354 | 77457 | 77561 | 77868 | 78377 | 78957
77054 | 77241 | 77355 | 77458 | 77562 | 77873 | 78379 | 78959
77055 | 77242 | 77356 | 77459 | 77563 | 77875 | 78380 | 78960
77056 | 77243 | 77357 | 77460 | 77564 | 77876 | 78381 | 78961
77057 | 77244 | 77358 | 77461 | 77565 | 77901 | 78382 | 78962
77058 | 77245 | 77359 | 77463 | 77566 | 77902 | 78387 | 78963
77059 | 77248 | 77360 | 77464 | 77568 | 77903 | 78389 |
77060 | 77249 | 77362 | 77465 | 77571 | 77904 | 78390 |
77061 | 77251 | 77363 | 77466 | 77572 | 77905 | 78391 |

Exceptions to Date of Receipt for Claimants Affected By Hurricane Maria

VA hereby gives notice that, for purposes of determining the date of entitlement, any correspondence received by VA during the period October 1 through October 31, 2017, from claimants under the jurisdiction of the Puerto Rico Regional Office that contained claims, information or evidence will be considered received no later than September 30, 2017. Claimants under the jurisdiction of the Puerto Rico Regional Office include residents of Puerto Rico and the U.S. Virgin Islands, as well as those claimants receiving pension or survivor benefits who are in the geographic region covered by the Puerto Rico Regional Office, but serviced by the Philadelphia Pension Management Center. Alternatively, if the correspondence was received between October 1 and 31, 2017, and the postmark date is prior to September 30, 2017, the correspondence will be considered received on the date of postmark.

Signing Authority

The Secretary of Veterans Affairs, or designee, approved this document and authorized the undersigned to sign and submit the document to the Office of the Federal Register for publication electronically as an official document of the Department of Veterans Affairs. Jacquelyn Hayes-Byrd, Deputy Chief of Staff, Department of Veterans Affairs, approved this document on March 13, 2018, for publication.

Dated: March 29, 2018.
Jeffrey Martin,
Impact Analyst, Office of Regulation Policy & Management, Office of the Secretary, Department of Veterans Affairs.

[FR Doc. 2018-06766 Filed 4-3-18; 8:45 am]

BILLING CODE 8320-01-P